DEPARTMENT OF THE INTERIOR

National Park Service

[N6699; NPS-WASO-NAGPRA-NPS0041445; PPWOCRADN0-PCU00RP14.R50000]

Notice of Inventory Completion: Lincoln University—Missouri, Jefferson City, MO

AGENCY: National Park Service, Interior.

ACTION: Notice.

SUMMARY: In accordance with the Native American Graves Protection and Repatriation Act (NAGPRA), the Lincoln University—Missouri has completed an inventory of human remains and associated funerary objects and has determined that there is a cultural affiliation between the human remains and associated funerary objects and Indian Tribes or Native Hawaiian organizations in this notice.

DATES: Repatriation of the human remains and associated funerary objects in this notice may occur on or after January 16, 2026.

ADDRESSES: Send written requests for repatriation of the human remains and associated funerary objects in this notice to Dr. Christine Elisabeth Boston, Lincoln University—Missouri,

Frank Hall #13, 816 Chestnut Street Jefferson City, MO 65101, email BostonC@lincolnu.edu.

SUPPLEMENTARY INFORMATION: This notice is published as part of the National Park Service's administrative responsibilities under NAGPRA. The determinations in this notice are the sole responsibility of Lincoln University of Missouri, and additional information on the determinations in this notice, including the results of consultation, can be found in its inventory or related records. The National Park Service is not responsible for the determinations in this notice.

Abstract of Information Available

Human remains representing, at least, two individuals have been identified. The 4,113 associated funerary objects are faunal materials, mussel shells, floral samples, charcoal, pottery, and lithics. The Algoa Site, 23CO156, is located in Cole County, Missouri and was excavated in 1976 by Craig Sturdevant and Lincoln University—Missouri students after road construction exposed archaeological materials and disturbed two burials.

Human remains representing, at least, one individual have been identified. No associated funerary objects are present. The remain was found in the “Griffin Collection”, a collection of precontact materials from Missouri donated to Lincoln University—Missouri.

Human remains representing, at least, one individual have been identified. No associated funerary objects are present. The remain was found in the “Display Material Up the Hill” collection, a collection of precontact Missouri materials donated to Lincoln University—Missouri mingled with artifacts pulled from Missouri archaeology collections.

The 461 associated funerary objects are charcoal and lithics. The Huber Mounds site, 23OS147, is located in Osage County, Missouri. The burial mounds site was excavated in 1975 by Craig Sturdevant and Lincoln University—Missouri students. At least part of the collection has been stored at Lincoln University—Missouri for an unknown amount of time.

The 31 associated funerary objects are lithics. Site 23MU13 is located in Moniteau County, Missouri. The burial mound site was first recorded by J.H. Stauffer at an unknown earlier date, then excavated by Terrell Martin during survey work conducted October 1984 to June 1985. The collection has been stored at Lincoln University—Missouri since that time.

The three associated funerary objects are lithics. Site 23MU33 is located in Moniteau County, Missouri. The burial mound site was first recorded by Fred Heysell at an unknown date, then excavated by Terrell Martin during survey work conducted October 1984 to June 1985. The collection has been stored at Lincoln University—Missouri since that time.

The 10 associated funerary objects are lithics and one pottery sherd. Site 23RN17 is located in Randolph County, Missouri. The rock and earth burial mound site was first recorded and excavated by Rolland E. Pangborn in 1965, revisited at an unknown date and collections stored at Lincoln University—Missouri.

Cultural Affiliation

Based on the information available and the results of consultation, cultural affiliation is clearly identified by the information available about the human remains and associated funerary objects described in this notice.

Determinations

The Lincoln University of Missouri has determined that:

• The human remains described in this notice represent the physical remains of four individuals of Native American ancestry.

• The 4,618 objects described in this notice are reasonably believed to have been placed intentionally with or near individual human remains at the time of death or later as part of the death rite or ceremony.

• There is a connection between the human remains and associated funerary objects described in this notice and The Osage Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 16, 2026. If competing requests for repatriation are received, the Lincoln University of Missouri must determine the most appropriate requestor prior to repatriation. Requests for joint repatriation of the human remains and associated funerary objects are considered a single request and not competing requests. The Lincoln University of Missouri is responsible for sending a copy of this notice to the Indian Tribes and Native Hawaiian organizations identified in this notice and any other consulting parties.

Authority: Native American Graves Protection and Repatriation Act, 25 U.S.C. 3003, and the implementing regulations, 43 CFR 10.10.

Dated: November 25, 2025.
Melanie O'Brien,
Manager, National NAGPRA Program.

[FR Doc. 2025-23055 Filed 12-16-25; 8:45 am]

BILLING CODE 4312-52-P